DEPARTMENT OF DEFENSE

Office of the Secretary of the Air Force; Acceptance of Group Application Under P.L. 95-202 and Department of Defense Directive (DODD) 1000.20

U.S. Civil Servants on Temporary Duty to Long BINH, Republic of Vietnam, From About April 4, 1972, to About April 27, 1972, to Design a Commercial Carrier Commodity Tariff and Shipment Control System Under the provisions of Section 401, Public Law 95-202 and DoD Directive 1000.20, the Department of Defense Civilian/Military Service Review Board has accepted an application on behalf of a group know as: U.S. Civil Servants on Temporary Duty at Long Binh, Republic of Vietnam, From about April 4, 1972 to about April 27, 1972, to Design a Commercial Carrier Commodity Tariff and Shipment Control System.

Persons with information or documentation pertinent to the determination of whether the service of this group should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Pamela D. Fitzgerald,
Air Force Federal Register Liaison Officer.

[FR Doc. 04-10722 Filed 5-11-04; 8:45 am]

BILLING CODE 5001-05-P